CONSUMER PRODUCT SAFETY COMMISSION

Sunshine Act Meetings

TIME AND DATE: Tuesday, November 10, 2009, 9 a.m.-12 noon (Morning sessions may carry over into the afternoon).

PLACE: Hearing Room 420, Bethesda Towers, 4330 East West Highway, Bethesda, Maryland.

STATUS: Commission Briefing/Meeting—Open to the Public.

MATTERS TO BE CONSIDERED: 1. Public Database Staff Briefing.

2. Public Database—Public Hearing for Stakeholders, including Staff Questions (Hearing announced in Federal Register notice dated Thursday, October 22, 2009, page 54552).

A live Webcast of the Briefing/Meeting can be viewed at http://www.cpsc.gov/webcast/index.html.

For a recorded message containing the latest agenda information, call (301) 504-7948.

CONTACT PERSON FOR MORE INFORMATION: Todd A. Stevenson, Office of the Secretary, U.S. Consumer Product Safety Commission, 4330 East West Highway, Bethesda, MD 20814 (301) 504-7923.

Dated: October 30, 2009.
Todd A. Stevenson,
Secretary.

[FR Doc. E9-26733 Filed 11-6-09; 8:45 am]

BILLING CODE 6355-01-M